DEPARTMENT OF ENERGY

Office of Energy Efficiency and Renewable Energy

Building America Energy Efficient Housing Partnerships

AGENCY: Office of Energy Efficiency and Renewable Energy, Department of Energy.

ACTION: Program notice.

SUMMARY: The National Energy Technology Laboratory, on behalf of the Office of Energy Efficiency and Renewable Energy's Building Technologies Program, intends to issue a Funding Opportunity Announcement (FOA) to select and fund multiple Energy Efficient Housing Partnership teams under the Building America program.

DATES: This FOA is expected to be issued on or about June 7, 2007.

FOR FURTHER INFORMATION CONTACT: George James, U.S. Department of Energy, Office of Energy Efficiency and Renewable Energy, Program Office EE-2J, 1000 Independence Avenue, SW., Washington, DC 20585-0121, (202) 586-9472, E-mail: George.James@ee.doe.gov.

C. Edward Christy, National Energy Technology Laboratory, P.O. Box 880, M/S E-02, Morgantown, WV 26507, (304) 285-4604, E-mail: Eddie.Christy@netl.doe.gov.

SUPPLEMENTARY INFORMATION: The Building America program focuses on conducting the systems research required to improve the efficiency of the approximately 1.6 million new homes built each year with the goal of developing cost effective net zero energy homes by 2020. These improvements are accomplished through research, development, field trials, and effective communication of key research results and system-based strategies. Building America implements this approach primarily through a group of teams. These teams typically include architects, engineers, building scientists, builders, equipment manufacturers, material suppliers, community planners, mortgage lenders, realtors, and contractor trades. This FOA, “Building America Energy Efficient Housing Partnerships,” will select multiple teams to continue the highly effective research Building America has undertaken since 1995.

For more information on the Building America program, go to http://www.eere.energy.gov/buildings/building_america/. FedBizOpps and Grants.gov provide e-mail notification services to interested parties who want to receive information about the posting of an acquisition or financial assistance opportunity. Register for funding opportunity notices at http://www.grants.gov/search/subscribeAdvanced.do.

Issued in Morgantown, WV, on May 22, 2007.
C. Edward Christy,
Director, Buildings and Industrial Technologies Division.

[FR Doc. E7-10489 Filed 5-30-07; 8:45 am]

BILLING CODE 6450-01-P